DEPARTMENT OF ENERGY

Office of Energy Efficiency and Renewable Energy

Proposed Agency Information Collection

AGENCY: Office of Energy Efficiency and Renewable Energy, U.S. Department of Energy.

ACTION: Notice and request for comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before November 10, 2015. If you anticipate difficulty in submitting comments within that period, contact the person listed in ADDRESSES as soon as possible.

ADDRESSES: Written comments may be sent to Mr. Chris Early, U.S. Department of Energy, Building Technologies Office, Mail Stop EE-5B, Forrestal Building, 1000 Independence Avenue SW., Washington, DC 20585-0121 or by fax at 202-586-4617 or by email at Chris.Early@ee.doe.gov.

FOR FURTHER INFORMATION CONTACT: Requests for additional information or copies of the information collection instrument and instructions should be directed to Mr. Chris Early, U.S. Department of Energy, Building Technologies Office, Mail Stop EE-5B, Forrestal Building, 1000 Independence Avenue SW., Washington, DC 20585-0121. Chris.Early@ee.doe.gov.

SUPPLEMENTARY INFORMATION: This information collection request contains: (1) OMB No. New; (2) Information Collection Request Title: Programs for Improving Energy Efficiency in Residential Buildings (3) Type of Request: New; (4) Purpose: The proposed collection will enable DOE to understand the universe of organizations participating in four voluntary programs: Zero Energy Ready Home Program, the Better Buildings Residential Network, the Home Energy Score, and the Home Performance with ENERGY STAR Program (HPwES). The DOE published a notice and request for comments for 60 days related to this current request to collect information on May 15, 2014 (79 FR 27867) and received no comments. That notice asked for comments for four voluntary programs at DOE, three of which are the same as for this current request for clearance and one is different. The DOE decided not to collect information for one of the four programs that was part of that May 15, 2014 request for comments, the Building America Program. The DOE, however, is adding the HPwES program to this current request for comments. The purpose of this 15 day notice and request for comments is to again request public comments on the three programs that were in the earlier 60 day notice and request for comments and also request comments on the HPwES program which was not included in that earlier 60 day FR notice. Through these four programs DOE encourages and assists the people and organizations that volunteer to participate in them to build and renovate new and existing houses to use less energy. The program partners who voluntarily participate in the programs consist of most of the actors in the home building industry including home owners, home builders, home builder tradesman and associations, home design professionals, students in architecture and related building construction industries, home energy raters, home energy auditors, home inspectors, building consultants, manufacturers of building products, professional trainers, utility companies, home building and manufacturing industry associations, consumer and home building industry advocacy organizations, financial institutions, non-profit organizations, educational institutions, nonprofit organizations, energy program administrators and implementers, Home Performance with ENERGY STAR sponsors, state or local government energy offices or agencies, clean energy non-profits with existing residential energy programs and other organizations who believe peer sharing will help them improve their effectiveness in encouraging homeowners to complete energy upgrades. DOE proposes to collect information about the participants such as their names and addresses, their evaluations of training they received about the programs, descriptions of their qualifications to conduct training for the programs, their plans to get people to participate in the programs, their certifications describing how they can assess homes, estimates of how many homes they can get to participate in the programs, and information about the homes. The collected information will help DOE understand the participating partners' activities and progress toward achieving scheduled milestones enabling DOE to make decisions about the best way to run the programs and respond to partners' needs to improve their operations and actions to lower energy consumption. The portion of the HPwES Program for which DOE is requesting comments was run by EPA. The operation of part of the HPwES program is to be transferred to the DOE from the Environmental Protection Agency (EPA). The DOE intends to operate HPwES substantially similarly to the way EPA operates the program. The difference in estimates of numbers of responses, number of respondents, burden hours, and costs to respond between the HPwES that was approved by OMB for EPA and the one requested to be approved by DOE are minor. The OMB did give the EPA clearance for collection of information in the HPwES program on August 14, 2014. OMB gave it the ICR Control Number 2060-0586. EPA did not receive any comments in either the 30 or 60 day Federal Register Notices for that collection of information; (5) Annual Estimated Number of Respondents: 11,585. (6) Annual Estimated Number of Total Responses: 46,909. (7) Annual Estimated Number of Burden Hours: 22,926. (8) Annual Estimated Reporting and Recordkeeping Cost Burden: zero dollars. DOE estimates that there are no additional costs to respondents associated with the surveys other than the costs associated with the burden hours.

Statutory Authority: The U.S. Code, Title 42, Chapter 149, Subchapter IX, Part A, Section 16191—Energy Efficiency.

Issued in Washington, DC, on October 2, 2015.
Roland J. Risser,
Director, Building Technologies Office, Energy Efficiency and Renewable Energy.

[FR Doc. 2015-27202 Filed 10-23-15; 8:45 am]

BILLING CODE 6450-01-P